DEPARTMENT OF THE INTERIOR

Bureau of Land Management

[LLWYD01000-2010-LL13100000-NB0000-LXSI016K0000]

Notice of Field Tours for the Pinedale Anticline Working Group

AGENCY: Bureau of Land Management, Interior.

ACTION: Notice.

SUMMARY: In accordance with the Federal Land Policy and Management Act (1976), the Federal Advisory Committee Act (1972), and the Record of Decision (ROD) for the Pinedale Anticline Project Area (PAPA) 2008 Supplemental Environmental Impact Statement (SEIS), and the Pinedale Anticline Working Group (PAWG) charter, the U.S. Department of the Interior, the Bureau of Land Management (BLM) PAWG will conduct field tours of the Pinedale Anticline Project Area (PAPA). Tours are open to the public.

DATES: September 30, 2010, and May 5, 2011, at 12 p.m. MST. Members of the public are asked to RSVP no later than one week prior to each field trip to Shelley Gregory, BLM Pinedale Field Office, P.O. Box 768, Pinedale, WY 82941; 307-367-5328; shelley_gregory@blm.gov.

ADDRESSES: BLM Pinedale Field Office, 1625 West Pine Street, Pinedale, WY.

FOR FURTHER INFORMATION CONTACT: Shelley Gregory, BLM Pinedale Field Office, P.O. Box 768, Pinedale, WY 82941; 307-367-5328; shelley_gregory@blm.gov.

SUPPLEMENTARY INFORMATION: The PAWG was established by the EIS ROD for the PAPA on July 27, 2000, and carried forward with the release of the ROD for the PAPA SEIS on September 12, 2008.

The PAWG is a Federal Advisory Committee Act group which develops recommendations and provides advice to the BLM on mitigation, monitoring, and adaptive management issues as oil and gas development in the PAPA proceeds. Additional information about the PAWG can be found at: http://www.blm.gov/wy/st/en/field_offices/pinedale/pawg.html.

Dated: August 27, 2010.
Donald A. Simpson,
State Director.

[FR Doc. 2010-21914 Filed 9-1-10; 8:45 am]

BILLING CODE 4310-22-P